DEPARTMENT OF COMMERCE

International Trade Administration

[A-570-830]

Notice of the Final Results of Changed Circumstances Review and Revocation of the Antidumping Order: Coumarin from the People's Republic of China

AGENCY: Import Administration, International Trade Administration, U.S. Department of Commerce.

SUMMARY: On January 26, 2004, the Department of Commerce published a notice of preliminary results of changed circumstances review and intent to revoke the antidumping duty order (69 FR 3543). We are now revoking this order effective February 1, 2003. The basis of the revocation is that Rhodia, Inc., which is the current name of Rhone-Poulenc, the petitioner in original investigation and the sole U.S. producer of coumarin, ceased production during 2002.

EFFECTIVE DATE: May 3, 2004.

FOR FURTHER INFORMATION CONTACT: Scott Lindsay or Addilyn Chams-Eddine at (202) 482-0780 or (202) 482-0648, respectively; Office of AD/CVD Enforcement Group VII, Import Administration, International Trade Administration, U.S. Department of Commerce, 14th Street and Constitution Avenue, NW, Washington, DC 20230.

SUPPLEMENTARY INFORMATION:

Background

On February 9, 1995, the Department published in the Federal Register the antidumping duty order on coumarin from the PRC. See Notice of Antidumping Order: Coumarin from the People's Republic of China, 60 FR 7751. On June 23, 2003, Berjé Incorporated (Berjé), a U.S. importer of subject merchandise and an interested party in this proceeding, requested that the Department conduct a changed circumstances review for the purpose of revoking the antidumping duty order on coumarin from the PRC. According to Berjé, Rhone-Poulenc Specialty Chemicals Company (Rhone-Poulenc), the petitioner, was the only domestic coumarin producer at the time of the original investigation. Berjé also indicated that since the original investigation, Rhone-Poulenc had changed its company name and now does business under the name Rhodia, Inc. (Rhodia) and that Rhodia remained the only producer of coumarin in the United States. Berjé informed the Department that Rhodia, in a press release dated November 28, 2001, announced its intent to cease production of coumarin in 2002. Berjé provided further information obtained from Rhodia indicating that Rhodia no longer produces coumarin in the United States.

Based on Berjé's June 23, 2003 submission, the Department initiated this changed circumstances review on July 31, 2003. See Notice of Initiation of Changed Circumstances Review and Consideration of Revocation of the Antidumping Duty Order: Coumarin From the Peoples's Republic of China, 68 FR 46579 (Initiation). On August 26, 2003, Rhodia submitted comments on the initiation of this changed circumstances review. Also on August 26, 2003, H. Reynaud & Fils USA Co. (H. Reynaud), an importer of the subject merchandise, submitted comments regarding the effective date of the revocation of the order. No other parties commented on our Initiation.

On January 26, 2004, we published Coumarin From the People's Republic of China: Preliminary Results of Changed Circumstances Review and Intent to Revoke the Antidumping Order, 69 FR 3543 (Preliminary Results). In the Preliminary Results we announced our intent to revoke the antidumping order on Coumarin from the PRC, effective February 1, 2003. Both Berjé and H. Reynaud submitted comments on the Preliminary Results on February 25, 2004. H. Reynaud submitted rebuttal comments on March 1, 2004. We have addressed the comments of the parties in the Issues and Decision Memo, which is on file in the Central Records Unit, room B-099 of the main Commerce Building. In addition, a complete version of the Issues and Decision Memo can be accessed directly on the Web at http://ia.ita.doc.gov. The paper copy and electronic version of the Issues and Decision Memo are identical in content.

Scope of the Antidumping Duty Order

The product covered by this order is coumarin. Coumarin is an aroma chemical with the chemical formula (C9H6O2) that is also known by other names, including 2H-1-benzopyran-2-one, 1, 2-benzopyrone, cis-o-coumaric acid lactone, coumarinic anhydride, 2-Oxo-1, 2-benzopyran, 5, 6-benzo-alpha-pyrone, ortho-hydroxyc innamic acid lactone, cis-ortho-coumaric acid anhydride, and tonka bean camphor.

All forms and variations of coumarin are included within the scope of the order, such as coumarin in crystal, flake, or powder form, and “crude” or unrefined coumarin (i.e., prior to purification or crystallization). Excluded from the scope of this order are ethylcoumarins (C11H10O2) and methylcoumarins (C10H8O2). Coumarin is classifiable under subheading 2932.21.0000 of the Harmonized Tariff Schedule of the United States (HTSUS). Although the HTSUS subheading is provided for convenience and customs purposes, our written description of the scope of this investigation is dispositive.

Final Results of Changed Circumstances Review and Revocation of the Antidumping Duty Order

In the Preliminary Results, we indicated our intent to revoke the antidumping order on coumarin from the PRC, effective February 1, 2003. We have considered the comments of the parties and we determine that February 1, 2003, is still the appropriate date on which to make the revocation of the antidumping order on coumarin effective. See Issues and Decision Memo.

Instructions to the Customs Service

In accordance with section 351.222 of the Department's regulations, the Department will instruct U.S. Customs and Border Protection (CBP) to terminate the suspension of liquidation and to liquidate, without regard to antidumping duties, all unliquidated entries of coumarin from the PRC, entered, or withdrawn from warehouse, for consumption on or after February 1, 2003, the effective date of the revocation of the order. The Department will further instruct CBP to refund with interest any estimated duties collected with respect to unliquidated entries of coumarin from the PRC entered, or withdrawn from warehouse, for consumption on or after February 1, 2003, in accordance with section 778 of the Act.

This notice also serves as a reminder to parties subject to administrative protective orders (APOs) of their responsibility concerning the disposition of proprietary information disclosed under APO in accordance with section 351.306 of the Department's regulations. Timely written notification of the return/destruction of APO materials or conversion to judicial protective order is hereby requested. Failure to comply with the regulations and terms of an APO is a sanctionable violation.

This notice of final results of changed circumstances review and revocation of the antidumping duty order is in accordance with sections 751(b) and (d), and 777(i)(1) of the Act and 351.216(d) and 351.222(g)of the Department's regulations.

Dated: April 26, 2004.
James J. Jochum,
Assistant Secretary for Import Administration.

[FR Doc. 04-9993 Filed 4-30-04; 8:45 am]

BILLING CODE 3510-DS-S